U.S.-CHINA ECONOMIC AND SECURITY REVIEW COMMISSION

Notice of Open Public Event

AGENCY: U.S.-China Economic and Security Review Commission.

ACTION: Notice of open public event.

SUMMARY: Notice is hereby given of the following open public event of the U.S.-China Economic and Security Review Commission. The Commission is mandated by Congress to investigate, assess, and report to Congress annually on “the national security implications of the economic relationship between the United States and the People's Republic of China.” Pursuant to this mandate, the Commission will hold a virtual public release of its 2021 Annual Report to Congress in Washington, DC on November 17, 2021.

DATES: The release is scheduled for Wednesday, November 17, 2021 at 10:30 a.m.

ADDRESSES: This release will be held online. Members of the public will be able to view a live webcast via the Commission's website at www.uscc.gov. Please check the Commission's website for possible changes to the event schedule and instructions on how to submit questions or participate in the question and answer session. Reservations are not required to attend.

FOR FURTHER INFORMATION CONTACT: Any member of the public seeking further information concerning the event should contact Jameson Cunningham, 444 North Capitol Street NW, Suite 602, Washington DC 20001; telephone: 202-624-1496, or via email at jcunningham@uscc.gov. Reservations are not required to attend. ADA Accessibility: For questions about the accessibility of the event or to request an accommodation, please contact Jameson Cunningham at 202-624-1496, or via email at jcunningham@uscc.gov. Requests for an accommodation should be made as soon as possible, and at least five business days prior to the event.

SUPPLEMENTARY INFORMATION:

Topics To Be Discussed: The Commission's 2021 Annual Report to Congress addresses key findings and recommendations for Congressional action based upon the Commission's hearings, research, and review of the areas designated by Congress in its mandate, including focused work this year on: A review of economics, trade, security, politics, and foreign affairs developments in 2021; the Chinese Communist Party's ambitions and challenges and its centennial; China's influence in Latin America and the Caribbean; the Chinese Communist Party's economic and technological ambitions; the Chinese government's evolving control of the corporate sector; U.S.-China financial connectivity and risks to U.S. national security; China's nuclear forces; deterring PRC aggression toward Taiwan; and the Hong Kong government's embrace of authoritarianism.

Authority: Congress created the U.S.-China Economic and Security Review Commission in 2000 in the National Defense Authorization Act (Public Law 106-398), as amended by Division P of the Consolidated Appropriations Resolution, 2003 (Public Law 108-7), as amended by Public Law 109-108 (November 22, 2005), as amended by Public Law 113-291 (December 19, 2014).

Dated: October 28, 2021.
Daniel W. Peck,
Executive Director, U.S.-China Economic and Security Review Commission.

[FR Doc. 2021-23901 Filed 11-2-21; 8:45 am]

BILLING CODE 1137-00-P